DEPARTMENT OF STATE

[Public Notice: 11712]

Notice of Public Meeting

SUMMARY: As required by the Federal Advisory Committee Act, the Department of State gives notice of a meeting of the Advisory Committee on International Postal and Delivery Services. This Committee will meet virtually on Wednesday, April 27, 2022, from 1:00 p.m. to 5:00 p.m. Eastern Time, hosted on a Zoom platform, as follows:

Meeting

https://statedept.zoomgov.com/j/1617289259?pwd=VnA1Q1ZIS0IrNlZFN0FHV2FGT0l5QT09

Meeting ID: 161 728 9259

Passcode: 123456

One tap mobile

+16692545252, 1617289259# US (San Jose)

+16468287666, 1617289259# US (New York)

Dial by your location

+1 669 254 5252 US (San Jose)

+1 646 828 7666 US (New York)

+1 669 216 1590 US (San Jose)

+1 551 285 1373 US

Members of the public interested in providing input to the meeting should contact Mr. Tom Moore, whose contact information is listed below (see the for further information section of this notice). Individuals providing oral input are requested to limit their comments to five minutes. Requests to be added to the speakers list must be received in writing (by email) prior to the close of business on Wednesday, April 20; written comments from members of the public for distribution at this meeting must reach Mr. Moore by email on this same date. Requests received after that date, including any requests for reasonable accommodation, will be considered but might not be able to be fulfilled.

The agenda of the meeting will include discussion of the outcome of the Abidjan Congress and an overview of issues that are being addressed in the current Congress cycle, in particular the U.S. approach to the Universal Postal Union (UPU) Task Force on opening to the wider postal sector, in preparation for 2023 UPU Extraordinary Congress, expected in late summer 2023.

FOR FURTHER INFORMATION CONTACT: Please contact Mr. Tom Moore of the Office of Specialized and Technical Agencies (IO/STA), Bureau of International Organization Affairs, U.S. Department of State, at tel. (202) 538-1474 or by email at MooreTH@state.gov.

Stuart Smith,
Designated Federal Officer, Advisory Committee on International Postal and Delivery Services, Office of Specialized and Technical Agencies, Bureau of International Organization Affairs, Department of State.

[FR Doc. 2022-07765 Filed 4-11-22; 8:45 am]

BILLING CODE 4710-19-P